DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of current and projected rulemakings, existing regulations, and completed actions of the Department of Homeland Security (DHS) and its components. This agenda provides the public with information about DHS's regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, Office of the General Counsel, U.S. Department of Homeland Security, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of current and projected rulemakings as well as actions completed since the publication of the last regulatory agenda for the Department. DHS last published its semiannual regulatory agenda on June 9, 2016 at 81 FR 37308.

Beginning in fall 2007, the Internet became the basic means for disseminating the Unified Agenda of Federal Regulatory and Deregulatory Actions (“Unified Agenda”). The complete Unified Agenda is available online at www.reginfo.gov. As required by law, however, DHS still prints various items in the Federal Register.

Executive Order 12866 requires Federal agencies to prepare a Regulatory Plan of the most important significant regulatory actions that the agency reasonably expects to issue in proposed or final form in that fiscal year or thereafter. As in past years, for fall editions of the semiannual regulatory agenda, Federal agencies print the entire Regulatory Plan in the Federal Register.

The Regulatory Flexibility Act (5 U.S.C. 602) requires Federal agencies to publish their regulatory flexibility agendas in the Federal Register. The law provides that a regulatory flexibility agenda shall contain, among other things, a brief description of the subject area of any rule that is likely to have a significant economic impact on a substantial number of small entities. In accordance with the publication requirements of the Regulatory Flexibility Act, DHS prints those regulatory actions that are part of DHS's regulatory flexibility agenda in the Federal Register.

DHS's semiannual agenda conforms to the Unified Agenda format developed by the Regulatory Information Service Center.

Dated: September 2, 2016.
Christina E. McDonald,
Associate General Counsel for Regulatory Affairs.

Office of the Secretary—Proposed Rule Stage
Sequence No. | Title | Regulation Identifier No.
307 | Chemical Facility Anti-Terrorism Standards (CFATS) (Reg Plan Seq No. 53) | 1601-AA69
308 | Homeland Security Acquisition Regulation, Enhancement of Whistleblower Protections for Contractor Employees | 1601-AA72
References in boldface appear in The Regulatory Plan in part II of this issue of the Federal Register.

Office of the Secretary—Long-Term Actions
Sequence No. | Title | Regulation Identifier No.
309 | Ammonium Nitrate Security Program | 1601-AA52

U.S. Citizenship and Immigration Services—Proposed Rule Stage
Sequence No. | Title | Regulation Identifier No.
310 | Requirements for Filing Motions and Administrative Appeals (Reg Plan Seq No. 55) | 1615-AB98
References in boldface appear in The Regulatory Plan in part II of this issue of the Federal Register.

U.S. Citizenship and Immigration Services—Final Rule Stage
Sequence No. | Title | Regulation Identifier No.
311 | Retention of EB-1, EB-2, and EB-3 Immigrant Workers and Program Improvements Affecting Highly-Skilled H-1B Nonimmigrant Workers (Reg Plan Seq No. 60) | 1615-AC05
References in boldface appear in The Regulatory Plan in part II of this issue of the Federal Register.

U.S. Citizenship and Immigration Services—Completed Actions
Sequence No. | Title | Regulation Identifier No.
312 | U.S. Citizenship and Immigration Services Fee Schedule | 1615-AC09

U.S. Coast Guard—Proposed Rule Stage
Sequence No. | Title | Regulation Identifier No.
313 | Commercial Fishing Vessels—Implementation of 2010 and 2012 Legislation (Reg Plan Seq No. 61) | 1625-AB85
References in boldface appear in The Regulatory Plan in part II of this issue of the Federal Register.

U.S. Coast Guard—Final Rule Stage
Sequence No. | Title | Regulation Identifier No.
314 | Seafarers' Access to Maritime Facilities (Reg Plan Seq No. 62) | 1625-AC15
References in boldface appear in The Regulatory Plan in part II of this issue of the Federal Register.

U.S. Coast Guard—Long-Term Actions
Sequence No. | Title | Regulation Identifier No.
315 | Numbering of Undocumented Barges | 1625-AA14
316 | Outer Continental Shelf Activities | 1625-AA18
317 | Transportation Worker Identification Credential (TWIC); Card Reader Requirements | 1625-AB21
318 | Updates to Maritime Security | 1625-AB38

U.S. Coast Guard—Completed Actions
Sequence No. | Title | Regulation Identifier No.
319 | Inspection of Towing Vessels | 1625-AB06

U.S. Customs and Border Protection—Final Rule Stage
Sequence No. | Title | Regulation Identifier No.
320 | Implementation of the Guam-CNMI Visa Waiver Program (Section 610 Review) | 1651-AA77
321 | Waiver of Passport and Visa Requirements Due to an Unforeseen Emergency | 1651-AA97

U.S. Customs and Border Protection—Long-Term Actions
Sequence No. | Title | Regulation Identifier No.
322 | Importer Security Filing and Additional Carrier Requirements (Section 610 Review) | 1651-AA70

Transportation Security Administration—Proposed Rule Stage
Sequence No. | Title | Regulation Identifier No.
323 | Security Training for Surface Transportation Employees (Reg Plan Seq No. 66) | 1652-AA55
References in boldface appear in The Regulatory Plan in part II of this issue of the Federal Register.

Transportation Security Administration—Long-Term Actions
Sequence No. | Title | Regulation Identifier No.
324 | General Aviation Security and Other Aircraft Operator Security | 1652-AA53

Transportation Security Administration—Completed Actions
Sequence No. | Title | Regulation Identifier No.
325 | Standardized Vetting, Adjudication, and Redress Services | 1652-AA61

U.S. Immigration and Customs Enforcement—Proposed Rule Stage
Sequence No. | Title | Regulation Identifier No.
326 | Procedures and Standards for Declining Immigration Surety Bonds and Appeal Requirement for Breaches | 1653-AA67

Federal Emergency Management Agency—Final Rule Stage
Sequence No. | Title | Regulation Identifier No.
327 | Updates to Floodplain Management and Protection of Wetlands Regulations to Implement Executive Order 13690 and the Federal Flood Risk Management Standard (Reg Plan Seq No. 69) | 1660-AA85
328 | National Flood Insurance Program (NFIP) Financial Assistance/Subsidy Arrangement | 1660-AA86
References in boldface appear in The Regulatory Plan in part II of this issue of the Federal Register.

DEPARTMENT OF HOMELAND SECURITY (DHS)

Office of the Secretary (OS)

Proposed Rule Stage

307. Chemical Facility Anti-Terrorism Standards (CFATS)

Regulatory Plan: This entry is Seq. No. 53 in part II of this issue of the Federal Register.

RIN: 1601-AA69

308. Homeland Security Acquisition Regulation, Enhancement of Whistleblower Protections for Contractor Employees

Legal Authority: Sec. 827 of the National Defense Authorization Act (NDAA) for Fiscal Year 2013, (Pub. L. 112-239, enacted January 2, 2013); 41 U.S.C. 1302(a)(2); 41 U.S.C. 1707

Abstract: The Department of Homeland Security (DHS) is proposing to amend its Homeland Security Acquisition Regulation (HSAR) parts 3003 and 3052 to implement section 827 of the National Defense Authorization Act (NDAA) for Fiscal Year (FY) 2013 (Pub. L. 112-239, enacted January 2, 2013) for the United States Coast Guard (USCG). Section 827 of the NDAA for FY 2013 established enhancements to the Whistleblower Protections for Contractor Employees for all agencies subject to section 2409 of title 10, United States Code, which includes the USCG.

Timetable:

Action | Date | FR Cite
NPRM | 04/00/17

Regulatory Flexibility Analysis Required: Yes.

Agency Contact: Linda Stivaletti-Petty, Procurement Analyst, Department of Homeland Security, Office of the Chief Procurement Officer, Acquisition Policy and Legislation, 245 Murray Lane, Room 3114, Washington, DC 20528, Phone: 202 447-5639, Email: linda.stivaletti@hq.dhs.gov.

Nancy Harvey, Policy Analyst, Department of Homeland Security, Office of the Chief Procurement Officer, Room 3636-15, 301 7th Street SW., Washington, DC 20528, Phone: 202 447-0956, Email: nancy.harvey@hq.dhs.gov.

RIN: 1601-AA72

DEPARTMENT OF HOMELAND SECURITY (DHS)

Office of the Secretary (OS)

Long-Term Actions

309. Ammonium Nitrate Security Program

Legal Authority: Pub. L. 110-161, 2008 Consolidated Appropriations Act, section 563

Abstract: This rulemaking will implement the December 2007 amendment to the Homeland Security Act entitled “Secure Handling of Ammonium Nitrate.” The amendment requires the Department of Homeland Security to “regulate the sale and transfer of ammonium nitrate by an ammonium nitrate facility . . . to prevent the misappropriation or use of ammonium nitrate in an act of terrorism.”

Timetable:

Action | Date | FR Cite
ANPRM | 10/29/08 | 73 FR 64280
Correction | 11/05/08 | 73 FR 65783
ANPRM Comment Period End | 12/29/08
NPRM | 08/03/11 | 76 FR 46908
Notice of Public Meetings | 10/07/11 | 76 FR 62311
Notice of Public Meetings | 11/14/11 | 76 FR 70366
NPRM Comment Period End | 12/01/11
Next Action Undetermined

Regulatory Flexibility Analysis Required: Yes.

Agency Contact: Jon MacLaren, Chief, Rulemaking Section, Department of Homeland Security, National Protection and Programs Directorate, Infrastructure Security Compliance Division (NPPD/ISCD), 245 Murray Lane, Mail Stop 0610, Arlington, VA 20528-0610, Phone: 703 235-5263, Fax: 703 603-4935, Email: jon.m.maclaren@hq.dhs.gov.

RIN: 1601-AA52

DEPARTMENT OF HOMELAND SECURITY (DHS)

U.S. Citizenship and Immigration Services (USCIS)

Proposed Rule Stage

310. Requirements for Filing Motions and Administrative Appeals

Regulatory Plan: This entry is Seq. No. 55 in part II of this issue of the Federal Register.

RIN: 1615-AB98

DEPARTMENT OF HOMELAND SECURITY (DHS)

U.S. Citizenship and Immigration Services (USCIS)

Final Rule Stage

311. Retention of EB-1, EB-2, and EB-3 Immigrant Workers and Program Improvements Affecting Highly-Skilled H-1B Nonimmigrant Workers

Regulatory Plan: This entry is Seq. No. 60 in part II of this issue of the Federal Register.

RIN: 1615-AC05

DEPARTMENT OF HOMELAND SECURITY (DHS)

U.S. Citizenship and Immigration Services (USCIS)

Completed Actions

312. U.S. Citizenship and Immigration Services Fee Schedule

Legal Authority: 8 U.S.C. 1356(m)

Abstract: This rule will adjust the fee schedule for U.S. Citizenship and Immigration Services (USCIS) immigration and naturalization benefit applications and petitions, including nonimmigrant applications and visa petitions. These fees fund the cost of processing applications and petitions for immigration benefits and services, and USCIS' associated operating costs. USCIS is revising these fees because the current fee schedule does not adequately recover the full costs of services provided by USCIS. Without an adjustment of the fee schedule, USCIS cannot provide adequate capacity to process all applications and petitions in a timely and efficient manner. The fee review is undertaken pursuant to the requirements of the Chief Financial Officers Act of 1990 (CFO Act), 31 U.S.C. 901-03. The CFO Act requires each agency's chief financial officer (CFO) to “review, on a biennial basis, the fees, royalties, rents, and other charges imposed by the agency for services and things of value it provides, and make recommendations on revising those charges to reflect costs incurred by it in providing those services and things of value.”

Timetable:

Action | Date | FR Cite
NPRM | 05/04/16 | 81 FR 26904
NPRM Comment Period End | 07/05/16
Final Rule | 10/24/16 | 81 FR 73292
Final Rule Effective | 12/23/16

Regulatory Flexibility Analysis Required: Yes.

Agency Contact: Joseph D. Moore, Chief Financial Officer, Department of Homeland Security, U.S. Citizenship and Immigration Services, Suite 4018, 20 Massachusetts Avenue NW., Washington, DC 20529, Phone: 202 272-1701, Fax: 202 272-1970, Email: joseph.moore@uscis.dhs.gov.

RIN: 1615-AC09

DEPARTMENT OF HOMELAND SECURITY (DHS)

U.S. Coast Guard (USCG)

Proposed Rule Stage

313. Commercial Fishing Vessels—Implementation of 2010 and 2012 Legislation

Regulatory Plan: This entry is Seq. No. 61 in part II of this issue of the Federal Register.

RIN: 1625-AB85

DEPARTMENT OF HOMELAND SECURITY (DHS)

U.S. Coast Guard (USCG)

Final Rule Stage

314. Seafarers' Access to Maritime Facilities

Regulatory Plan: This entry is Seq. No. 62 in part II of this issue of the Federal Register.

RIN: 1625-AC15

DEPARTMENT OF HOMELAND SECURITY (DHS)

U.S. Coast Guard (USCG)

Long-Term Actions

315. Numbering of Undocumented Barges

Legal Authority: 46 U.S.C. 12301

Abstract: Title 46 U.S.C. 12301, as amended by the Abandoned Barge Act of 1992, requires that all undocumented barges of more than 100 gross tons operating on the navigable waters of the United States be numbered. This rulemaking would establish a numbering system and user fees for an original or renewed Certificate of Number for these barges. The numbering of undocumented barges allows the Coast Guard to identify the owners of abandoned barges. This rulemaking supports the Coast Guard's broad role and responsibility of protecting natural resources.

Timetable:

Action | Date | FR Cite
Request for Comments | 10/18/94 | 59 FR 52646
Comment Period End | 01/17/95
ANPRM | 07/06/98 | 63 FR 36384
ANPRM Comment Period End | 11/03/98
NPRM | 01/11/01 | 66 FR 2385
NPRM Comment Period End | 04/11/01
NPRM Reopening of Comment Period | 08/12/04 | 69 FR 49844
NPRM Reopening Comment Period End | 11/10/04
Supplemental NPRM | To Be Determined

Regulatory Flexibility Analysis Required: Yes.

Agency Contact: Andrea Heck, Project Manager, Department of Homeland Security, U.S. Coast Guard, National Vessel Documentation Center, 792 T.J. Jackson Drive, Falling Waters, WV 25419, Phone: 304 271-2400, Email: andrea.m.heck@uscg.mil.

RIN: 1625-AA14

316. Outer Continental Shelf Activities

Legal Authority: 43 U.S.C. 1333(d)(1); 43 U.S.C. 1348(c); 43 U.S.C. 1356; DHS Delegation No 0170.1

Abstract: The Coast Guard is the lead Federal agency for workplace safety and health on facilities and vessels engaged in the exploration for, or development, or production of, minerals on the Outer Continental Shelf (OCS), other than for matters generally related to drilling and production that are regulated by the Bureau of Safety and Environmental Enforcement (BSEE). This project would revise the regulations on OCS activities by: (1) Adding new requirements, for OCS units for lifesaving, fire protection, training, and helidecks; (2) providing for USCG acceptance and approval of specified classification society plan reviews, inspections, audits, and surveys; and (3) requiring foreign vessels engaged in OCS activities to comply with rules similar to those imposed on U.S. vessels similarly engaged. This project would affect the owners and operators of facilities and vessels engaged in offshore activities.

Timetable:

Action | Date | FR Cite
Request for Comments | 06/27/95 | 60 FR 33185
Comment Period End | 09/25/95
NPRM | 12/07/99 | 64 FR 68416
NPRM Correction | 02/22/00 | 65 FR 8671
NPRM Comment Period Extended | 03/16/00 | 65 FR 14226
NPRM Comment Period Extended | 06/30/00 | 65 FR 40559
NPRM Comment Period End | 11/30/00
Next Action Undetermined | To Be Determined

Regulatory Flexibility Analysis Required: Yes.

Agency Contact: Charles Rawson, Project Manager, Department of Homeland Security, U.S. Coast Guard, Commandant (CG-ENG-2), 2703 Martin Luther King, Jr. Avenue SE., STOP 7509, Washington, DC 20593-7509, Phone: 202 372-1390, Email: charles.e.rawson@uscg.mil.

RIN: 1625-AA18

317. Transportation Worker Identification Credential (TWIC); Card Reader Requirements

Legal Authority: 33 U.S.C. 1226; 33 U.S.C. 1231; 46 U.S.C. 701; 50 U.S.C. 191; 50 U.S.C. 192; E.O. 12656

Abstract: The Coast Guard is establishing electronic card reader requirements for maritime facilities and vessels to be used in combination with TSA's Transportation Worker Identification Credential (TWIC). Congress enacted several statutory requirements within the Security and Accountability for Every (SAFE) Port Act of 2006 to guide regulations pertaining to TWIC readers, including the need to evaluate TSA's final pilot program report as part of the TWIC reader rulemaking. During the rulemaking process, we took into account the final pilot data and the various conditions in which TWIC readers may be employed. For example, we considered the types of vessels and facilities that will use TWIC readers, locations of secure and restricted areas, operational constraints, and need for accessibility. Recordkeeping requirements, amendments to security plans, and the requirement for data exchanges (i.e., Canceled Card List) between TSA and vessel or facility owners/operators were also addressed in this rulemaking.

Timetable:

Action | Date | FR Cite
ANPRM | 03/27/09 | 74 FR 13360
Notice of Public Meeting | 04/15/09 | 74 FR 17444
ANPRM Comment Period End | 05/26/09
Notice of Public Meeting Comment Period End | 05/26/09
NPRM | 03/22/13 | 78 FR 20558
NPRM Comment Period Extended | 05/10/13 | 78 FR 27335
NPRM Comment Period Extended End | 06/20/13
Final Rule | 08/23/16 | 81 FR 57651
Final Rule Effective | 08/23/18

Regulatory Flexibility Analysis Required: Yes.

Agency Contact: LCDR Kevin McDonald, Project Manager, Department of Homeland Security, U.S. Coast Guard, Commandant (CG-FAC-2), 2703 Martin Luther King, Jr. Avenue SE., STOP 7501, Washington, DC 20593-7501, Phone: 202 372-1168, Email: kevin.j.mcdonald@uscg.mil.

RIN: 1625-AB21

318. Updates to Maritime Security

Legal Authority: 33 U.S.C. 1226; 33 U.S.C. 1231; 46 U.S.C. 701; 50 U.S.C. 191 and 192; E.O. 12656; 33 CFR 1.05-1; 33 CFR 6.04-11; 33 CFR 6.14; 33 CFR 6.16; 33 CFR 6.19; DHS Delegation No. 0170.1

Abstract: The Coast Guard proposes certain additions, changes, and amendments to 33 CFR subchapter H. Subchapter H is comprised of parts 101 through 106. Subchapter H implements the major provisions of the Maritime Transportation Security Act of 2002 (MTSA). This rulemaking is the first major revision to subchapter H. The proposed changes would further the goals of domestic compliance and international cooperation by incorporating requirements from legislation implemented since the original publication of these regulations, such as the Security and Accountability for Every (SAFE) Port Act of 2006, and including international standards such as Standards of Training, Certification & Watchkeeping security training. This rulemaking has international interest because of the close relationship between subchapter H and the International Ship and Port Security Code (ISPS).

Timetable:

Action | Date | FR Cite
NPRM | To Be Determined

Regulatory Flexibility Analysis Required: Yes.

Agency Contact: LCDR Kevin McDonald, Project Manager, Department of Homeland Security, U.S. Coast Guard, 2703 Martin Luther King, Jr. Avenue SE., Commandant (CG-FAC-2), STOP 7501, Washington, DC 20593-7501, Phone: 202 372-1168, Email: kevin.j.mcdonald@uscg.mil.

RIN: 1625-AB38

DEPARTMENT OF HOMELAND SECURITY (DHS)

U.S. Coast Guard (USCG)

Completed Actions

319. Inspection of Towing Vessels

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No 0170.1

Abstract: This rulemaking implements a program of inspection for certification of towing vessels, which were previously uninspected. It prescribes standards for safety management systems and third-party auditors and surveyors, along with standards for construction, operation, vessel systems, safety equipment, and recordkeeping.

Timetable:

Action | Date | FR Cite
NPRM | 08/11/11 | 76 FR 49976
Notice of Public Meetings | 09/09/11 | 76 FR 55847
NPRM Comment Period End | 12/09/11 |
Final Rule | 06/20/16 | 81 FR 40003
Final Rule Effective | 07/20/16 |

Regulatory Flexibility Analysis Required: Yes.

Agency Contact: LCDR William Nabach, Project Manager, Office of Operating & Environmental Standards, CG-OES-2, Department of Homeland Security, U.S. Coast Guard, 2703 Martin Luther King, Jr. Avenue SE., STOP 7509, Washington, DC 20593-7509, Phone: 202 372-1386, Email: william.a.nabach@uscg.mil.

RIN: 1625-AB06

DEPARTMENT OF HOMELAND SECURITY (DHS)

U.S. Customs and Border Protection (USCBP)

Final Rule Stage

320. Implementation of the Guam-CNMI Visa Waiver Program (Section 610 Review)

Legal Authority: Pub. L. 110-229, sec. 702

Abstract: The interim final rule (or the final rule planned for the coming year) amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Timetable:

Action | Date | FR Cite
Interim Final Rule | 01/16/09 | 74 FR 2824
Interim Final Rule Effective | 01/16/09 |
Interim Final Rule Comment Period End | 03/17/09 |
Technical Amendment; Change of Implementation Date | 05/28/09 | 74 FR 25387
Final Action | 08/00/17 |

Regulatory Flexibility Analysis Required: No.

Agency Contact: Stephanie Watson, Supervisory Program Manager, Department of Homeland Security, U.S. Customs and Border Protection, Office of Field Operations, 1300 Pennsylvania Avenue NW., 2.5B-38, Washington, DC 20229, Phone: 202 325-4548, Email: stephanie.e.watson@cbp.dhs.gov.

RIN: 1651-AA77

321. Waiver of Passport and Visa Requirements Due to an Unforeseen Emergency

Legal Authority: 212(a)(7)(B) INA 8 U.S.C. 1182(a)(7)

Abstract: This rule proposes to reinstate a 1996 amendment to 8 CFR 212.1(g) regarding a waiver of documentary requirements for nonimmigrants seeking admission to the United States. The 1996 amendment allowed the former Immigration and Naturalization Service (INS) to waive passport and visa requirements due to an unforeseen emergency while preserving its ability to fine carriers for unlawfully transporting aliens to the United States who do not have a valid passport or visa. On November 20, 2009, the United States Court of Appeals for the Second Circuit invalidated the 1996 amendment based on procedural grounds.

Timetable:

Action | Date | FR Cite
NPRM | 03/08/16 | 81 FR 12032
NPRM Comment Period End | 05/09/16 |
Final Rule | 12/00/16 |
Final Rule Effective | 01/00/17 |

Regulatory Flexibility Analysis Required: Yes.

Agency Contact: Joseph R. O'Donnell, Program Manager, Fines, Penalties and Forfeitures Division, Department of Homeland Security, U.S. Customs and Border Protection, Office of Field Operations, 1300 Pennsylvania Avenue NW., Washington, DC 20229, Phone: 202 344-1691, Email: joseph.r.odonnell@dhs.gov.

RIN: 1651-AA97

DEPARTMENT OF HOMELAND SECURITY (DHS)

U.S. Customs and Border Protection (USCBP)

Long-Term Actions

322. Importer Security Filing and Additional Carrier Requirements (Section 610 Review)

Legal Authority: Pub. L. 109-347, sec. 203; 5 U.S.C. 301; 19 U.S.C. 66; 19 U.S.C. 1431; 19 U.S.C. 1433 to 1434; 19 U.S.C. 1624; 19 U.S.C. 2071 (note); 46 U.S.C. 60105

Abstract: This final rule implements the provisions of section 203 of the Security and Accountability for Every Port Act of 2006. On November 25, 2008, Customs and Border Protection (CBP) published an interim final rule (CBP Dec. 08-46) in the Federal Register (73 FR 71730), that finalized most of the provisions proposed in the NPRM. It requires carrier and importers to provide to CBP, via a CBP approved electronic data interchange system, certain advance information pertaining to cargo brought into the United States by vessel to enable CBP to identify high-risk shipments to prevent smuggling and ensure cargo safety and security. The interim final rule did not finalize six data elements that were identified as areas of potential concern for industry during the rulemaking process and, for which, CBP provided some type of flexibility for compliance with those data elements. CBP solicited public comment on these six data elements, is conducting a structured review, and also invited comments on the revised Regulatory Assessment and Final Regulatory Flexibility Analysis. (See 73 FR 71782-85 for regulatory text and 73 CFR 71733-34 for general discussion.) The remaining requirements of the rule were adopted as final. CBP plans to issue a final rule after CBP completes a structured review of the flexibilities and analyzes the comments.

Timetable:

Action | Date | FR Cite
NPRM | 01/02/08 | 73 FR 90
NPRM Comment Period End | 03/03/08 |
NPRM Comment Period Extended | 02/01/08 | 73 FR 6061
NPRM Comment Period End | 03/18/08 |
Interim Final Rule | 11/25/08 | 73 FR 71730
Interim Final Rule Effective | 01/26/09 |
Interim Final Rule Comment Period End | 06/01/09 |
Correction | 07/14/09 | 74 FR 33920
Correction | 12/24/09 | 74 FR 68376
Final Action | 11/00/17 |

Regulatory Flexibility Analysis Required: Yes.

Agency Contact: Craig Clark, Program Manager, Vessel Manifest & Importer Security Filing, Office of Cargo and Conveyance Security, Department of Homeland Security, U.S. Customs and Border Protection, 1300 Pennsylvania Avenue NW., Washington, DC 20229, Phone: 202 344-3052, Email: craig.clark@cbp.dhs.gov.

RIN: 1651-AA70

DEPARTMENT OF HOMELAND SECURITY (DHS)

Transportation Security Administration (TSA)

Proposed Rule Stage

323. Security Training for Surface Transportation Employees

Regulatory Plan: This entry is Seq. No. 66 in part II of this issue of the Federal Register.

RIN: 1652-AA55

DEPARTMENT OF HOMELAND SECURITY (DHS)

Transportation Security Administration (TSA)

Long-Term Actions

324. General Aviation Security and Other Aircraft Operator Security

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008, the Transportation Security Administration (TSA) issued a notice of proposed rulemaking (NPRM), proposing to amend current aviation transportation security regulations to enhance the security of general aviation by expanding the scope of current requirements, and by adding new requirements for certain large aircraft operators and airports serving those aircraft. TSA also proposed that all aircraft operations, including corporate and private charter operations, with aircraft having a maximum certificated takeoff weight (MTOW) above 12,500 pounds (large aircraft) be required to adopt a large aircraft security program. TSA also proposed to require certain airports that serve large aircraft to adopt security programs. TSA is considering publishing a supplemental NPRM (SNPRM) in response to comments received on the NPRM.

Timetable:

Action | Date | FR Cite
NPRM | 10/30/08 | 73 FR 64790
NPRM Comment Period End | 12/29/08 |
Notice—NPRM Comment Period Extended | 11/25/08 | 73 FR 71590
NPRM Extended Comment Period End | 02/27/09 |
Notice—Public Meetings; Requests for Comments | 12/18/08 | 73 FR 77045
Supplemental NPRM | To Be Determined

Regulatory Flexibility Analysis Required: Yes.

Agency Contact: Kevin Knott, Branch Manager, Industry Engagement Branch—Aviation Division, Department of Homeland Security, Transportation Security Administration, Office of Security Policy and Industry Engagement, 601 South 12th Street, Arlington, VA 22304, Phone: 571 227-4370, Email: kevin.knott@tsa.dhs.gov.

Alex Moscoso, Lead Economist, Economic Analysis Branch—Cross Modal Division, Department of Homeland Security, Transportation Security Administration, Office of Security Policy and Industry Engagement, 601 South 12th Street, Arlington, VA 20598-6028, Phone: 571 227-5839, Email: alex.moscoso@tsa.dhs.gov.

Denise Daniels, Attorney-Advisor, Regulations and Security Standards, Department of Homeland Security, Transportation Security Administration, Office of the Chief Counsel, 601 South 12th Street, Arlington, VA 20598-6002, Phone: 571 227-3443, Fax: 571 227-1381, Email: denise.daniels@tsa.dhs.gov.

RIN: 1652-AA53

DEPARTMENT OF HOMELAND SECURITY (DHS)

Transportation Security Administration (TSA)

Completed Actions

325. Standardized Vetting, Adjudication, and Redress Services

Legal Authority: 49 U.S.C. 114, 5103A, 44903 and 44936; 46 U.S.C. 70105; 6 U.S.C. 469; Pub. L. 110-53, secs 1411, 1414, 1520, 1522 and 1531

Abstract: Aspects of this rulemaking will be incorporated into other agency rulemaking. Accordingly, TSA is withdrawing this rulemaking.

The Transportation Security Administration (TSA) intends to propose new regulations to revise and standardize the procedures, adjudication criteria, and fees for most of the security threat assessments (STA) of individuals for which TSA is responsible. The scope of the rulemaking will include transportation workers who are required to undergo an STA, including surface, maritime, and aviation workers. TSA will comply with certain vetting-related requirements of the Implementing Recommendations of the 9/11 Commission Act, Pub. L. 110-53 (Aug. 3, 2007). TSA will propose fees to cover the cost of all STAs. TSA plans to improve the processing of STAs and streamline existing regulations by simplifying language and removing redundancies. TSA will propose revisions to the Alien Flight Student Program (AFSP) regulations. TSA published an interim final rule for AFSP on September 20, 2004. TSA regulations require aliens seeking to train at Federal Aviation Administration-regulated flight schools to complete an application and undergo an STA prior to beginning flight training. There are four categories under which students currently fall; the nature of the STA depends on the student's category. TSA is considering changes to the AFSP that would improve the equity among fee payers and enable the implementation of new technologies to support vetting.

Timetable:

Action | Date | FR Cite
Withdrawn | 08/16/16 |

Regulatory Flexibility Analysis Required: Yes.

Agency Contact: Chang Ellison, Branch Manager, Program Initiatives Branch, Department of Homeland Security, Transportation Security Administration, Office of Intelligence and Analysis, TSA-10, HQ E6, 601 South 12th Street, Arlington, VA 20598-6010, Phone: 571 227-3604, Email: chang.ellison@tsa.dhs.gov.

Michael J. Pickford, Lead Economist, Economic Analysis Branch—Cross Modal Division, Department of Homeland Security, Transportation Security Administration, Office of Security Policy and Industry Engagement, 601 South 12th Street, Arlington, VA 20598-6028, Phone: 571 227-2268, Email: michael.pickford@tsa.dhs.gov.

John Vergelli, Senior Counsel, Regulations and Security Standards Division, Department of Homeland Security, Transportation Security Administration, Office of the Chief Counsel, 601 South 12th Street, Arlington, VA 20598-6002, Phone: 571 227-4416, Fax: 571 227-1378, Email: john.vergelli@tsa.dhs.gov.

RIN: 1652-AA61

DEPARTMENT OF HOMELAND SECURITY (DHS)

U.S. Immigration and Customs Enforcement (USICE)

Proposed Rule Stage

326. Procedures and Standards for Declining Immigration Surety Bonds and Appeal Requirement for Breaches

Legal Authority: 8 U.S.C. 1103

Abstract: The U.S. Immigration and Customs Enforcement (ICE) proposes to set forth standards and procedures ICE will follow before making a determination to stop accepting immigration bonds posted by a surety company that has been certified to issue bonds by the Department of the Treasury. Treasury administers the Federal corporate surety program and, in its current regulations, allows agencies to prescribe “for cause” standards and procedures for declining to accept bonds from Treasury-certified sureties. ICE would also require surety companies seeking to overturn a breach determination to file an administrative appeal raising all legal and factual defenses in this appeal.

Timetable:

Action | Date | FR Cite
NPRM | 11/00/16 |

Regulatory Flexibility Analysis Required: Yes.

Agency Contact: Beth Cook, Deputy Chief, Office of the Principal Legal Advisor, Department of Homeland Security, U.S. Immigration and Customs Enforcement, Suite 200, 166 Sycamore Street, Williston, VT 05495, Phone: 802 288-7742, Email: beth.e.cook@ice.dhs.gov.

Molly Stubbs, ICE Regulatory Coordinator, Department of Homeland Security, U.S. Immigration and Customs Enforcement, Office of the Director, PTN—Potomac Center North, 500 12th Street SW., Washington, DC 20536, Phone: 202 732-6202, Email: molly.stubbs@ice.dhs.gov.

Brad Tuttle, Attorney Advisor, Department of Homeland Security, U.S. Immigration and Customs Enforcement, 500 12th Street SW., Washington, DC 20536, Phone: 202 732-5000, Email: bradley.c.tuttle@ice.dhs.gov.

RIN: 1653-AA67

DEPARTMENT OF HOMELAND SECURITY (DHS)

Federal Emergency Management Agency (FEMA)

Final Rule Stage

327. Updates to Floodplain Management and Protection of Wetlands Regulations To Implement Executive Order 13690 and the Federal Flood Risk Management Standard

Regulatory Plan: This entry is Seq. No. 69 in part II of this issue of the Federal Register.

RIN: 1660-AA85

328. National Flood Insurance Program (NFIP) Financial Assistance/Subsidy Arrangement

Legal Authority: 42 U.S.C. 4001 et seq.

Abstract: The Federal Emergency Management Agency (FEMA) is proposing to remove the copy of the Financial Assistance/Subsidy Arrangement and the summary of the Financial Control Plan from the appendices of its National Flood Insurance Program regulations, as it is no longer necessary or appropriate to retain a contract, agreement, or any other arrangement between FEMA and private insurance companies in the Code of Federal Regulations.

Timetable:

Action | Date | FR Cite
NPRM | 05/23/16 | 81 FR 32261
NPRM Comment Period End | 07/22/16 |
Final Rule | 11/00/16 |

Regulatory Flexibility Analysis Required: Yes.

Agency Contact: Claudia Murphy, Policyholder Services Division, Department of Homeland Security, Federal Emergency Management Agency, 400 C Street SW., Washington, DC 20472, Phone: 202 646-2775, Email: claudia.murphy@fema.dhs.gov.

RIN: 1660-AA86

[FR Doc. 2016-29864 Filed 12-22-16; 8:45 am]

BILLING CODE 9110-9B-P